DEPARTMENT OF THE INTERIOR

Bureau of Land Management

[CA-360-04-1770-AL]

Notice of Emergency Temporary Closure of Certain Public Lands to Target Shooting, in Tehama County, CA

AGENCY: Bureau of Land Management, Interior.

ACTION: Notice of emergency temporary closure.

SUMMARY: In accordance with title 43, Code of Federal Regulations, Section 8364.1 notice is hereby given that all the below listed land, administered by the Bureau of Land Management (BLM), is closed to the discharge of firearms for the purpose of target shooting. The closure encompasses the Sacramento River Bend Area of Critical Environmental Concern (ACEC) and nearby scattered parcels, as well as future public land encompassed by the below descriptions. This immediate closure is necessary to protect human health and safety in an area of increasing recreational use and population growth.

DATES: This closure is in effect from October 1, 2004 until December 31, 2005. A final determination for the closure will be made as part of the upcoming Bend ACEC Management Plan which is anticipated to be completed by the end of calendar year 2005.

ADDRESSES: Copies of the closure and map of the closed areas can be obtained at the BLM, Redding Field Office, 355 Hemsted Drive, Redding, CA 96002, (530) 224-2100. BLM will also announce the closure through local media outlets by posting this notice with a map of the closed areas at key locations that provide access the closure area.

FOR FURTHER INFORMATION CONTACT: Steven W. Anderson, Field Manager, Bureau of Land Management, Redding Field Office, 355 Hemsted Drive, Redding, CA 96002.

SUPPLEMENTARY INFORMATION: In 1986 much of the ACEC vicinity was closed to target shooting through the Sacramento River Area Management Plan (SRAMP) and a subsequent Federal Register (1987). One small exception to the 1986 closure, the “Paynes Creek Shooting Area,” was left open for shooting in the SRAMP but is also closed by this Closure due to a significant increase in recreational use in the Paynes Creek vicinity. The Sacramento River Bend management unit was designated as an ACEC through the Redding Resource Management Plan in 1993. Since 1993, land acquisitions have created a large consolidated block of public land which is ideally suited to pedestrian, equestrian and mountain bicycle uses. Additionally, the increasing population of the northern California area has put additional management pressures on the Sacramento River Bend ACEC. Hunting of legal game in legal season, and subject to state law, is unaffected by this closure.

The only area within the Sacramento River Bend ACEC that remains open to target shooting is T. 29N., R.2W, section 6, S½.

Closure Order

Section 1. Closed Lands

This closure affects all of the public lands located within:

T. 27N., R.2W, sections 4 and 8, M.D.M.

T. 28N., R.2W, sections 4, 5, 6, 7, 8, 9, 17, 18, 19, 20, 30, M.D.M.

T. 28N., R.3W, section 14 M.D.M. (Paynes Creek shooting area)

T. 29N., R.2W, sections 2, 3, 4, 5, 6 (N½ only), 7, 8, 18, 19, 30, 31, M.D.M.

T. 29N., R.3W, sections 1, 2, 3, 10, 11, 12, 13, 14, 23, 24, M.D.M.

T. 30N., R1W, section 30, M.D.M.

T. 30N., R.2W, sections 25, 26, 27, 28, 31, 32, 33, 34, 35, 36, M.D.M.

A total of approximately 9,500 acres.

In a 1987 Federal Register notice the remainder of the ACEC was closed to target shooting. The previous closure remains in effect.

Section 2. Exceptions to Closures and Restriction Orders

This closure does not apply to the following:

• T. 29 N., R.2W, section 6, S½.

• Nothing in this closure is intended to affect legal hunting as consistent with California Department of Fish and Game regulations.

Section 3. Penalties

Under section 303(a) of the Federal Land Policy and Management Act of 1976 (43 U.S.C. 1733(a) and 43 CFR 8360-7), if you violate these closures or restrictions on public lands within the boundaries established, you may be tried before a United States Magistrate and fined no more than $1,000 or imprisoned for no more than 12 months, or both. Such violations may also be subject to the enhanced fines provided for by 18 U.S.C. 3571.

Section 4. Conditions for Ending Closures and Restrictions

A final determination for the closure will be made as part of the upcoming Bend ACEC Management Plan which is anticipated to be completed by the end of calendar year 2005. This management plan will include full public involvement during the planning process.

FOR FURTHER INFORMATION CONTACT: Steven W. Anderson, Field Manager, Bureau of Land Management, Redding Field Office, 355 Hemsted Drive, Redding, CA 96002.

Dated: September 9, 2004.
J. Anthony Danna,
Deputy State Director, Natural Resources, California State Office.

Editorial Note: This document was received by the Office of the Federal Register on March 3, 2005.

[FR Doc. 05-4415 Filed 3-7-05; 8:45 am]

BILLING CODE 4310-40-P